DEPARTMENT OF THE TREASURY

Customs Service

Solicitation of Applications for Membership on Customs Cobra Fees Advisory Committee

AGENCY: U.S. Customs Service, Department of the Treasury.

ACTION: General notice.

SUMMARY: This notice establishes criteria and procedures for the selection of members and requests applications for membership on the Customs COBRA Fees Advisory Committee.

DATES: Applications will be accepted until March 9, 2000.

ADDRESSES: Applications should be addressed to Richard Coleman, Trade Compliance Team, United States Customs Service, 1300 Pennsylvania Avenue NW., Room 5.2, Washington, DC 20229, Attention: COBRA 1999.

FOR FURTHER INFORMATION CONTACT: Richard Coleman, Trade Compliance Team, U.S. Customs Service, 202-927-0563.

SUPPLEMENTARY INFORMATION:

Background

By enactment of Pub. L. 106-36, the Miscellaneous Trade and Technical Corrections Act of 1999, section 13031 of the Consolidated Omnibus Budget Reconciliation Act (COBRA) of 1985 (19 U.S.C. 58c) was amended by adding language which directs the Commissioner of Customs to establish an advisory committee (the Customs COBRA Fees Advisory Committee) whose membership shall consist of representatives from the airline, cruise ship and other transportation industries who may be the subject of fees under section 13031.

The Committee will advise the Commissioner of Customs on issues related to the performance of inspectional services of the United States Customs Service. Such advice shall include, but not be limited to, such issues as the time periods during which such services should be performed, the proper number and deployment of inspectional officers, the level of fees and the appropriateness of any proposed fee.

The Committee will consist of eight industry members and one U.S. Customs representative. The Deputy Commissioner of the U.S. Customs Service will be the Customs representative and chair the Committee. Two senior managers representing the Office of Finance and the Office of Field Operations of the U.S. Customs Service will serve as technical representatives to the chairperson. The Committee shall be in existence unless, or until, such time as its establishment is repealed by Congress.

The members shall be selected by the Commissioner of Customs from applicants representing the transportation industry served by Customs, such as but not limited to, the following: commercial cargo vessels, commercial passenger vessels, rail transportation, trucking transportation, air passenger, barge operators and general aviation.

The members must demonstrate professional or personal qualifications relevant to the purpose, functions and tasks of the Committee. Appointments will be made with the objective of creating a diverse and balanced body with a variety of interests, backgrounds and viewpoints represented. In addition, the members shall represent as much as possible all geographical regions of the country. Persons who serve on another advisory committee will not be eligible to serve on this Committee.

The Deputy Commissioner may designate another official to serve in his absence as Acting Chairperson for purposes of presiding over a meeting of the Committee or performing any other duty of the chairperson. Not more than four meetings will be held during a two year period, in accordance with the Federal Advisory Committee Act. Regular meetings will be held at six month intervals. An occasional special meeting may be held at the discretion of the chairperson and the members. Meetings will generally be held at the U.S. Customs Service headquarters in Washington, DC. On occasion, meetings may be held outside of Customs Headquarters, generally at a Customs port.

The meetings are open to public observers, including the press, unless special procedures have been followed to close a meeting to the public. The Committee may elect to receive oral or written presentations by parties not directly represented by a member of the Committee where such presentations would contribute to committee deliberations.

No person who is required to register under the Foreign Agents Registration Act as an agent or representative of a foreign principal may serve on the advisory committee. Members shall not be paid compensation, nor shall they be considered federal government employees for any reason. No per diem, transportation or other expenses will be reimbursed for the cost of attending committee meetings at any location.

Membership on the Committee is personal to the appointees. Regular attendance is essential to the effective operation of the Committee. Members are selected based on their individual credentials and qualifications. Members may not designate alternates to represent them at Committee meetings. In the event of an unavoidable absence of a member, even if the meeting is closed to the public, a representative of the member's organization may attend the session as a nonparticipating observer.

Initially, four members will be appointed for a term of twelve months and four members will be appointed for a term of twenty four months. Thereafter members will serve for a period of twenty four months. Members who served on the Committee during a prior two year term or terms are eligible to reapply for membership. However, it is expected that approximately half of the seats on the Committee will be filled with new members.

Any interested person wishing to serve on the Customs COBRA Fees Advisory Committee must provide the following: a statement of interest and reasons for application and a complete professional biography or resume. In addition, applicants must state in their applications that they agree to submit to preappointment security and tax checks. There is no prescribed format for the application. Applicants may send a cover letter describing their interest and qualifications, along with a resume.

Dated: February 2, 2000.
Raymond W. Kelly,
Commissioner of Customs.

[FR Doc. 00-2724 Filed 2-7-00; 8:45 am]

BILLING CODE 4820-02-P